DEPARTMENT OF COMMERCE

National Oceanic and Atmospheric Administration

RIN 0648-XE612

Fisheries of the Caribbean, Gulf of Mexico, and South Atlantic; Reef Fish Resources of the Gulf of Mexico; Amendment 41

AGENCY: National Marine Fisheries Service (NMFS), National Oceanic and Atmospheric Administration (NOAA), Commerce.

ACTION: Notice of Intent (NOI) to prepare a draft environmental impact statement (DEIS); request for comments.

SUMMARY: The NMFS Southeast Region in collaboration with the Gulf of Mexico Fishery Management Council (Council) intends to prepare a DEIS to describe and analyze a range of alternatives for management actions to be included in Amendment 41 to the Fishery Management Plan (FMP) for the Reef Fish Resources of the Gulf of Mexico (Amendment 41). Amendment 41 will consider management approaches for the harvest of red snapper from vessels with a Gulf Charter Vessel/Headboat Permit for Reef Fish that do not participate in the Southeast Region Headboat Survey. The purpose of this NOI is to solicit public comments on the scope of issues to be addressed in the DEIS.

DATES: Written comments on the scope of issues to be addressed in the DEIS will be accepted until June 16, 2016.

ADDRESSES: You may submit comments, identified by NOAA-NMFS-2016-0057, by either of the following methods:

• Electronic submission: Submit all electronic public comments via the Federal e-Rulemaking Portal. Go to www.regulations.gov/#!docketDetail;D=NOAA-NMFS-2016-0057, click the “Comment Now!” icon, complete the required fields, and enter or attach your comments.

• Mail: Submit written comments to Cynthia Meyer, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Cynthia Meyer, NMFS Southeast Regional Office, telephone: 727-824-5305; or email: cynthia.meyer@noaa.gov.

SUPPLEMENTARY INFORMATION: The Council recently took action to provide more flexibility in managing the harvest of red snapper by the various components of the Gulf reef fish recreational sector. In 2014, the Council established separate private angling and Federal charter vessel/headboat (for-hire) components of the red snapper recreational sector. There has been a decrease over time in the proportion of red snapper harvested by anglers fishing from Federal for-hire vessels and differences in regulatory environments faced by Federal for-hire operators and private anglers. These factors contributed to the Council's decision to restructure the red snapper recreational sector to increase flexibility for each component.

The purpose of Amendment 41 is to develop a management approach for federally permitted Gulf reef fish charter vessels that reduces management uncertainty, provides flexibility and improves economic conditions for the owners and operators of Federal charter vessels, and increases opportunities for anglers who fish from Federal charter vessels to harvest red snapper.

NMFS, in collaboration with the Council, will develop a DEIS for Amendment 41 to describe and analyze alternatives to address the management needs described above, including the “no action” alternative. In accordance with the regulations issued by the Council on Environmental Quality (CEQ) for implementing the National Environmental Policy Act (NEPA; 40 CFR parts 1500-1508), NMFS, in collaboration with the Council, has identified preliminary environmental issues as a means to initiate discussion for scoping purposes only. These preliminary issues may not represent the full range of issues that eventually will be evaluated in the DEIS. A copy of the Amendment 41 draft options paper is available at: http://sero.nmfs.noaa.gov/sustainable_fisheries/gulf_fisheries/reef_fish/index.html.

Comments on the scope of the DEIS may be submitted in writing to NMFS (see ADDRESSES) during the 30-day scoping period. After the scoping period and throughout the development of Amendment 41, the Council will accept written comments on the action, and oral comments may be made during the public testimony portion of any Council meeting. The upcoming Council meetings will be in Clearwater Beach, Florida on June 20-24, 2016, and New Orleans, Louisiana on August 15-19, 2016.

After the DEIS associated with Amendment 41 is completed, it will be filed with the Environmental Protection Agency (EPA). After filing, the EPA will publish a notice of availability of the DEIS for public comment in the Federal Register. Consistent with the CEQ regulations, the DEIS will have a 45-day public comment period.

The Council and NMFS will consider public comments received on the DEIS in developing the final environmental impact statement (FEIS) and before adopting final management measures for the amendment. NMFS will submit the consolidated final amendment and supporting FEIS to the Secretary of Commerce (Secretary) for review as required by the Magnuson-Stevens Fishery Conservation and Management Act.

NMFS will announce, through a notification in the Federal Register, the availability of the final amendment for public review during the Department of Commerce Secretarial review period and will consider all public comments. During Secretarial review, NMFS will also file the FEIS with the EPA, and the EPA will publish a notice of availability for the FEIS in the Federal Register. This public comment period is expected to be concurrent with the Secretarial review period and will end prior to final agency action to approve, disapprove, or partially approve the Amendment 41.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: May 11, 2016.
Emily H. Menashes,
Acting Director, Office of Sustainable Fisheries, National Marine Fisheries Service.

[FR Doc. 2016-11574 Filed 5-16-16; 8:45 am]

BILLING CODE 3510-22-P